DEPARTMENT OF ENERGY

Federal Energy Regulatory Commission

[Docket No. RP97-374-006]

Northwest Pipeline Corporation; Notice of Proposed Changes in FERC Gas Tariff and Filing of Negotiated Rate Service Agreements

May 4, 2004.

Take notice that on April 27, 2004, Northwest Pipeline Corporation (Northwest) tendered for filing and acceptance two Rate Schedule TF-1 negotiated rate service agreements. Northwest also tendered the following tariff sheets as part of its FERC Gas Tariff, Third Revised Volume No. 1, to be effective May 28, 2004.

Sixth Revised Sheet No. 376 and Sixth Revised Sheet No. 377

Northwest states that the purpose of this filing is to submit two Rate Schedule TF-1 service agreements containing negotiated rates for Commission acceptance, and to add these agreements to the list of negotiated rate service agreements in Northwest's tariff.

Northwest states that a copy of this filing has been served upon Northwest's customers and interested state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1100 Filed 5-12-04; 8:45 am]

BILLING CODE 6717-01-P